DEPARTMENT OF HEALTH AND HUMAN SERVICES

Health Care Financing Administration

Privacy Act of 1974; System of Records

AGENCY: Department of Health and Human Services (HHS), Health Care Financing Administration (HCFA).

ACTION: Notice To Delete Three Systems of Records.

SUMMARY: The Health Care Financing Administration is deleting three systems of records from its inventory subject to the Privacy Act of 1974 (5 U.S.C. 552a), as amended.

EFFECTIVE DATE: The deletions will be effective on June 6, 2000.

ADDRESSES: The public should address comments to: Director, Division of Data Liaison and Distribution, HCFA, Room N2-04-27, 7500 Security Boulevard, Baltimore, Maryland 21244-1850. The telephone number is (410) 786-3673. Comments received will be available for review at this location, by appointment, during regular business hours, Monday through Friday from 9 a.m.-3 p.m., eastern time zone.

SUPPLEMENTARY INFORMATION: The “Medicare Enrollment Records Statistics (MERS),” System No. 09-70-0006, was established to study the characteristics of persons enrolled in the Medicare program and establish the basis for Medicare services utilization rates. The “Health Insurance Enrollment Statistics (HIES), General Enrollment Period,” System No. 09-70-0007 was established to contact persons eligible for Part B benefits who had refused or withdrawn coverage of these benefits, for purposes of re-enrollment for Part B coverage and to evaluate results of such contacts. The “Medicare Beneficiary Correspondence Files (MBC),” System No. 09-70-0509 was established to maintain and track correspondence in a HCFA component that no longer exist. All of these systems are being deleted from HCFA's inventory because they are no longer used. Retention and destruction of the data contained in these systems has been in accordance with the retention and disposal schedules listed in the system notice.

Deletions

No. 09-70-0006 “Medicare Enrollment Records Statistics (MERS),” HHS/HCFA/BDMS;

No. 09-70-0007 “Health Insurance Enrollment Statistics (HIES), General Enrollment Period,” HHS/HCFA/BDMS.

No. 09-70-0509 “Medicare Beneficiary Correspondence Files (MBC),” HHS/HCFA/BPO;

Dated: May 26, 2000.
Nancy-Ann Min DeParle,
Administrator, Health Care Financing Administration.

[FR Doc. 00-14071 Filed 6-5-00; 8:45 am]

BILLING CODE 4120-03-U